DEPARTMENT OF COMMERCE

International Trade Administration

[A-570-862]

Foundry Coke Products From the People's Republic of China: Final Results of Expedited Second Sunset Review of the Antidumping Duty Order

AGENCY: Import Administration, International Trade Administration, Department of Commerce.

SUMMARY: On December 1, 2011, the Department of Commerce (“Department”) initiated the second five-year (“sunset”) review of the antidumping duty order on foundry coke products (“foundry coke”) from the People's Republic of China (“PRC”) pursuant to section 751(c) of the Tariff Act of 1930, as amended (“Act”). On the basis of a notice of intent to participate, and an adequate substantive response filed on behalf of the domestic interested parties,¹ as well as a lack of response from respondent interested parties, the Department conducted an expedited sunset review of the antidumping duty order, pursuant to section 751(c)(3)(B) of the Act and 19 CFR 351.218(e)(1). As a result of the sunset review, the Department finds that revocation of the antidumping duty order on foundry coke from the PRC would be likely to lead to continuation or recurrence of dumping at the levels indicated in the “Final Results of Review” section of this notice.

¹ ABC Coke, Erie Coke, Tonawanda Coke, and Walker Coke (collectively, the “domestic interested parties”).

DATES: Effective Date: April 6, 2012.

FOR FURTHER INFORMATION CONTACT: Jennifer Moats and Ricardo Martinez Rivera, AD/CVD Operations, Import Administration, International Trade Administration, U.S. Department of Commerce, 14th Street and Constitution Avenue NW, Washington, DC 20230; telephone: (202) 482-5047 and (202) 482-4532, respectively.

SUPPLEMENTARY INFORMATION:

Background

On December 1, 2011, the Department initiated the second sunset review of the antidumping duty order on foundry coke from the PRC,² pursuant to section 751(c) of the Act and 19 CFR 351.218(c)(2). The Department received a notice of intent to participate from the domestic interested parties within the deadline specified in 19 CFR 351.218(d)(1)(i). The domestic interested parties claimed interested party status under section 771(9)(C) of the Act, as a manufacturer of a domestic like product in the United States.

² See Initiation of Five-Year (“Sunset”) Review, 76 FR 74775 (December 1, 2011); see also Notice of Amended Final Determination of Sales at Less Than Fair Value and Antidumping Duty Order: Foundry Coke Products from The People's Republic of China 66 FR 48025 (September 17, 2001) (“Order”).

We received a complete substantive response from the domestic interested parties within the 30-day deadline specified in 19 CFR 351.218(d)(3)(i). We received no responses from respondent interested parties. As a result, the Department conducted an expedited sunset review of the Order, pursuant to 19 CFR 351.218(e)(1).

Scope of the Order

The product covered under the antidumping duty order is coke larger than 100 mm (4 inches) in maximum diameter and at least 50 percent of which is retained on a 100 mm (4 inch) sieve, of a kind used in foundries. The foundry coke products subject to the antidumping duty order were classifiable under subheading 2704.00.00.10 (as of Jan 1, 2000) and are currently classifiable under subheading 2704.00.00.11 (as of July 1, 2000) of the Harmonized Tariff Schedule of the United States (“HTSUS”). Although the HTSUS subheadings are provided for convenience and Customs purposes, our written description of the scope of the Order is dispositive.

Analysis of Comments Received

All issues raised in this review are addressed in the “Issues and Decision Memorandum for the Final Results of the Expedited Second Sunset Review of the Antidumping Duty Order on Foundry Coke from the People's Republic of China” (“Decision Memorandum”) from Christian Marsh, Deputy Assistant Secretary for Antidumping and Countervailing Duty Operations, to Paul Piquado, Assistant Secretary for Import Administration, dated concurrently with and hereby adopted by this notice. The issues discussed in the Decision Memorandum include (1) the likelihood of continuation or recurrence of dumping and the magnitude of the margins likely to prevail if the Order was to be revoked; and (2) the magnitude of the margins likely to prevail. Parties may find a complete discussion of all issues raised in the review and the corresponding recommendations in this public memorandum which is on file electronically via Import Administration's Antidumping and Countervailing Duty Centralized Electronic Services System (“IA ACCESS”). Access to IA ACCESS is available in the Central Records Unit room 7046 of the main Commerce building. In addition, a complete version of the Decision Memorandum can be access directly on the Web at http://ia.ita.doc.gov/frn. The signed Decision Memorandum and the electronic versions of the Decision Memorandum are identical in content.

Final Results of Review

We determine that revocation of the Order would be likely to lead to continuation or recurrence of dumping at the following weighted-average percentage margins:

Manufacturers/exporters/producers | Weighted-average margin (percent)
Shanxi Dajin International (Group) Co. Ltd | 101.62
Sinochem International Co. Ltd | 105.91
Minmetals Townlord Technology Co. Ltd | 75.58
CITIC Trading Company, Ltd | 48.55
PRC-Wide Rate | 214.89

Notice Regarding Administrative Protective Order (“APO”)

This notice also serves as the only reminder to parties subject to APO of their responsibility concerning the return or destruction of proprietary information disclosed under APO in accordance with 19 CFR 351.305. Timely notification of the return of destruction of APO materials or conversion to judicial protective order is hereby requested. Failure to comply with the regulations and terms of an APO is a violation which is subject to sanction.

This sunset review and notice are in accordance with sections 751(c), 752, and 771(i)(1) of the Act.

Dated: March 30, 2012.
Paul Piquado,
Assistant Secretary for Import Administration.

[FR Doc. 2012-8368 Filed 4-5-12; 8:45 am]

BILLING CODE 3510-DS-P